DEPARTMENT OF HEALTH AND HUMAN SERVICES

National Advisory Council on Migrant Health

AGENCY: Health Resources and Services Administration (HRSA), Department of Health and Human Services (HHS).

ACTION: Meeting notice.

SUMMARY: The Secretary's National Advisory Council on Migrant Health (NACMH) has scheduled a public meeting. Information about NACMH and the agenda for this meeting can be found on the NACMH website at: https://bphc.hrsa.gov/qualityimprovement/strategicpartnerships/nacmh/index.html.

DATES: November 14, 2018, 8:30 a.m.-5:00 p.m. ET and November 15, 2018, 9:00 a.m.-5:00 p.m. ET.

ADDRESSES: This meeting will be held in person only at the Bethesda Marriott Suites. The address for the meeting is 6711 Democracy Boulevard, Bethesda, Maryland 20817. Phone: 301-897-5600.

FOR FURTHER INFORMATION CONTACT: Esther Paul, Designated Federal Officer (DFO) NACMH, HRSA, Office of Policy and Program Development, Bureau of Primary Health Care, HRSA, 5600 Fishers Lane, 16N38B, Rockville, Maryland 20857; 301-594-4300; or epaul@hrsa.gov.

SUPPLEMENTARY INFORMATION: NACMH provides advice and recommendations to the Secretary of HHS on policy, program development, and other matters of significance concerning the activities under Section 330(g) of the Public Health Service (PHS) Act (42 U.S.C. 254b). Pursuant to 42 U.S.C. 218, NACMH advises, consults with, and makes recommendations to the Secretary of HHS regarding the organization, operation, selection, and funding of migrant health centers and other entities funded under Section 330(g) of the PHS Act (42 U.S.C. 254b).

During the November 14 through 15, 2018, meeting, NACMH will discuss its general business activities. The Council will also hear presentations from federal officials and experts on issues facing agricultural workers, including the status of agricultural worker health at the local and national levels. Topics addressed at this meeting include:

I. Patient Engagement Strategies;

II. Recruitment and Retention of Health Care Providers;

III. Human Trafficking in Agriculture; and

IV. Health Literacy.

Agenda items are subject to change as priorities dictate. Refer to the NACMH website for any updated information concerning the meeting.

Members of the public will have the opportunity to provide comments. Public participants may submit written statements in advance of the scheduled meeting. Oral comments will be honored in the order they are requested and may be limited as time allows. Requests to submit a written statement or make oral comments to NACMH should be sent to Esther Paul, DFO, using the contact information above at least 3 business days prior to the meeting.

Individuals who plan to attend and need special assistance or another reasonable accommodation should notify Esther Paul at the address and phone number listed above at least 10 business days prior to the meeting.

Amy P. McNulty,
Acting Director, Division of the Executive Secretariat.

[FR Doc. 2018-20268 Filed 9-17-18; 8:45 am]

BILLING CODE 4165-15-P